UNITED STATES INSTITUTE OF PEACE

Sunshine Act; Notice of Meeting

AGENCY: United States Institute of Peace.

Date/Time: Thursday, November 17, 2005, 9:15 a.m.-3:30 p.m.

location: 1200 17th Street, NW., Suite 200, Washington, DC 20036-3011.

Status: Open Session—Portions may be closed pursuant to subsection (c) of section 552(b) of Title 5, United States Code, as provided in subsection 1706(h)(3) of the United States Institute of Peace Act, Public Law 98-525.

Agenda: November 2005 Board Meeting; Approval of Minutes of the One Hundred Twentieth Meeting (September 22, 2005) of the Board of Directors; Chairman's Report; President's Report; Fiscal Year 2007 Budget Submission to OMB; Selection of NPEC topic; Grants Program Restructure; Other General Issues.

FOR FURTHER INFORMATION CONTACT: Tessie Higgs, Executive Office, Telephone: (202) 429-3836.

Dated: October 31, 2005.
Patricia P. Thomson,
Executive Vice President, United States Institute of Peace.

[FR Doc. 05-22016 Filed 11-1-05; 12:30 pm]

BILLING CODE 6820-AR-M